DEPARTMENT OF JUSTICE

Notice of Task Force on Research on Violence Against American Indian and Alaska Native Women Meeting

AGENCY: Office on Violence Against Women, United States Department of Justice.

ACTION: Notice of meeting.

SUMMARY: The Office on Violence Against Women (OVW), U.S. Department of Justice has scheduled a meeting of the Task Force on Research on Violence Against American Indian and Alaska Native Women (hereinafter “the Task Force”).

DATES: The meeting will take place on June 17, 2024, from 1 p.m. to 5 p.m. (eastern standard time).

ADDRESSES: This meeting will be a virtual meeting.

FOR FURTHER INFORMATION CONTACT: Visit the OVW website at https://www.justice.gov/ovw/section-904-task-force or contact Sherriann C. Moore, Deputy Director, Tribal Affairs Division, Office on Violence Against Women, United States Department of Justice, at (202) 616-0039 or ovw.tribalaffairs@usdoj.gov.

SUPPLEMENTARY INFORMATION: Notice of this meeting is required under section 10(a)(2) of the Federal Advisory Committee Act. Title IX of the Violence Against Women Act of 2005 (VAWA 2005), as amended, required the Attorney General to establish a task force to assist the National Institute of Justice (NIJ) in developing and implementing a program of research on violence against American Indian and Alaska Native women, to include studies on domestic violence, dating violence, sexual assault, stalking, murder, and sex trafficking experienced by American Indian and Alaska Native women living in Indian country and Alaska. NIJ's program of research has supported studies on these crimes against American Indian and Alaska Native women and responses to these serious crimes. The Attorney General, acting through the Director of the Office on Violence Against Women, established the Task Force on March 31, 2008, and the charter has been renewed every two years since then.

More information on the Task Force may be found at https://www.justice.gov/ovw/section-904-task-force and about the NIJ program of research at: https://nij.ojp.gov/topics/tribal-crime-and-justice.

This meeting will include an update on NIJ's research program and facilitated Task Force discussion and recommendations addressing violence against American Indian and Alaska Native Women. In addition, the Task Force is also welcoming public oral comment at this meeting and has reserved 30 minutes for this. The meeting will take place on June 17, 2024, from 1 p.m. to 5 p.m. Time will be reserved for public comment from 4:15 p.m. to 4:45 p.m. See the section below for information on reserving time for public comment.

Access: The meeting will be available online via a video conferencing platform. Members of the public who wish to participate must register in advance of the meeting online, no later than June 12, 2024. Details about registration can be found on the OVW website: https://www.justice.gov/ovw/section-904-task-force. Should issues arise with online or email registration, the public should contact Sherriann C. Moore, Deputy Director, Tribal Affairs Division, Office on Violence Against Women, at (202) 616-0039 or ovw.tribalaffairs@usdoj.gov.

Written Comments: Interested parties are invited to submit written comments by June 12, 2024, to Sherriann C. Moore, Deputy Director, Tribal Affairs Division, Office on Violence Against Women, at (202) 616-0039 or ovw.tribalaffairs@usdoj.gov.

Public Comment: Persons interested in participating during the public comment period of the meeting are requested to reserve time on the agenda by contacting Sherriann C. Moore, Deputy Director, Tribal Affairs Division, Office on Violence Against Women, at (202) 616-0039 or ovw.tribalaffairs@usdoj.gov. Requests must include the participant's name, the organization represented, if appropriate, and a brief description of the subject of the comments. Each participant will be permitted approximately 3 to 5 minutes to present comments, depending on the number of individuals reserving time on the agenda. Participants are also encouraged to submit written copies of their comments at the meeting. Comments that are submitted to Sherriann C. Moore, Deputy Director, Tribal Affairs Division, Office on Violence Against Women, at (202) 616-0039 or ovw.tribalaffairs@usdoj.gov before June 12, 2024, will be circulated to Task Force members prior to the meeting.

Given the expected number of individuals interested in presenting comments at the meeting, reservations should be made as soon as possible.

Rosemarie Hidalgo,
Director, Office on Violence Against Women.

[FR Doc. 2024-11993 Filed 5-30-24; 8:45 am]

BILLING CODE 4410-FX-P